DEPARTMENT OF HEALTH AND HUMAN SERVICES

Health Resources and Services Administration

Agency Information Collection Activities: Proposed Collection: Public Comment Request Information Collection Request Title: Health Center Patient Survey, Reinstatement With Change

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 13, 2018.

ADDRESSES: Submit your comments to paperwork@hrsa.gov or mail the HRSA Information Collection Clearance Officer, Lisa Wright-Solomon, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Health Center Patient Survey, OMB No. 0915-0368—Reinstatement with Change.

Abstract: HRSA supported health centers (those entities funded under section 330 of the Public Health Service Act) deliver comprehensive, affordable, quality primary health care to nearly 26 million patients nationwide, regardless of their ability to pay. Nearly 1,400 health centers operate more than 11,000 service delivery sites in every U.S. state, the District of Columbia, Puerto Rico, the U.S. Virgin Islands, and the Pacific Basin. In the past, HRSA has conducted the Health Center Patient Survey (HCPS), which surveys patients of HRSA funded health centers. The HCPS collects information about sociodemographic characteristics, health conditions, health behaviors, access to and use of health care services, and satisfaction with health care received at HRSA funded health centers. HRSA will use the same overarching modules from the 2014 HCPS but will employ changes designed to streamline the questionnaire to minimize burden and to standardize questions with other national surveys enabling comparative analyses with particular focus on HHS and HRSA priority areas (e.g., mental health and substance use). Survey results come from in-person, one-on-one interviews with patients who are selected as nationally representative of the Health Center Program patient population.

Need and Proposed Use of the Information: The HCPS uniquely focuses on comprehensive, nationally representative, individual level data from the perspective of health center patients. By investigating how well HRSA funded health centers meet the health care needs of the medically underserved and how patients perceive their quality of care, the HCPS serves as an empirically based resource to inform HRSA policy, funding, and planning decisions.

Likely Respondents: Patients at HRSA supported health centers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. Compared to previous HCPS, the estimated burden hours for an individual respondent remains the same in the reinstatement. However, the total annual burden hours and number of survey respondents is anticipated to increase in order reflect the growing number of patients served by the Health Center Program. The total annual burden hours estimated for this ICR are summarized in the table below.

Total Estimated Annualized Burden Hours
Form name | Number of respondents | Number of responses per respondent | Total responses | Average burden per response (in hours) | Total burden hours
Grantee Recruitment | 220 | 1 | 220 | 2.00 | 440
Site Recruitment and Training | 700 | 1 | 700 | 3.15 | 2,205
Patient Screening | 13,120 | 1 | 13,120 | 0.17 | 2,230
Patient Survey | 9,058 | 1 | 9,058 | 1.25 | 11,323
Total | 23,098 |  | 23,098 |  | 16,198

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy P. McNulty,
Acting Director, Division of the Executive Secretariat.

[FR Doc. 2018-10182 Filed 5-11-18; 8:45 am]

BILLING CODE 4165-15-P